DEPARTMENT OF DEFENSE

Department of the Navy

[Docket ID: USN-2010-0024]

Privacy Act of 1974; System of Records

AGENCY: U.S. Marine Corps, Department of the Navy, DoD.

ACTION: Notice to add a system of records.

SUMMARY: The U.S. Marine Corps proposes to add a system of records to its existing inventory of records systems subject to the Privacy Act of 1974, (5 U.S.C. 552a), as amended.

DATES: This proposed action will be effective without further notice on August 9, 2010, unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the Headquarters, U.S. Marine Corps, FOIA/PA Section (ARSF), 2 Navy Annex, Room 3134, Washington, DC 20380-1775.

The proposed system report, as required by 5 U.S.C. 552a(r), of the Privacy Act of 1974, as amended, was submitted on June 28, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: July 6, 2010.
Mitchell S. Bryman,
Alternate OSD Federal Register Liaison Officer, Department of Defense.

M12400-1

System name:

Civilian Workforce Development Application (CWDA).

System location:

Headquarters Marine Corps (HQMC), Manpower Information Systems Division (MI), at the James Wesley Marsh Center, 3280 Russell Road, Marine Corps Base (MCB) Quantico, VA 22134-5103.

Categories of individuals covered by the system:

Civilians employed by the U.S. Marines Corps.

Categories of records in the system:

Full name, Social Security Number (SSN), date of birth, grade, correspondence and records pertaining to performance, employment, pay, classification, security clearance, personnel actions, medical, insurance, retirement, tax withholding information, exemptions, unemployment compensation, employee profile, education, training, labor management relations, worker compensation, performance based actions, business based actions, benefits, discipline and administration of non-appropriated fund civilian personnel.

Authority for maintenance of the system:

10 U.S.C. 5013, Secretary of the Navy; 10 U.S.C. 5041, Headquarters, Marine Corps; 5 U.S.C., Section 301, Departmental Regulations; MCO 12510.2C, Civilian Workforce Management;

MCO 12713.6A, Equal Employment Opportunity Program;

MCO 12451.2C, Honorary Awards for Civilian Employees; MCO 12301.1B, Authority to Approve Extensions to the DoD 5-Year Overseas Employment Limitation and Movements Between Overseas Areas for Civilian Employees, MCO 12410.21B, Consolidated Civilian Career Training (CCCT) Program; and E.O. 9397 (SSN), as amended.

Purpose(s):

To facilitate the occupational and professional development of civilians employed by the U.S. Marines Corps. The database contains civilian personnel data and data related to the leadership and core competencies of the Communities of Interest (COIs). CWDA provides career and professional development information to civilians employed by the U.S. Marines Corps and allows them to schedule training, update personal training/qualification data, and view job vacancies within the U.S. Marine Corps.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To officials and employees of other departments and agencies of the Executive Branch of government, upon request, in the performance of their official duties related to the management of civilian personnel employed by the Marine Corps.

The DoD `Blanket Routine Uses' set forth at the beginning of the U.S. Marine Corps' compilation of systems of records notices apply to this system.

Policies and practices for storing, retrieving, accessing, retaining, and disposing of records in the system:

Storage:

Electronic storage media.

Retrievability:

Name and/or Social Security Number (SSN) and Unit.

Safeguards:

Records are maintained in areas only accessible to authorized Manpower Information Systems Division (MI) server room personnel that are properly screened, cleared, and trained. System software uses Public Key Infrastructure (PKI)/Common Access Card (CAC) authentication to lock out unauthorized access. System software contains authorization/permission partitioning to limit access to appropriate organizational level. The Social Security Number (SSN) information is not presented or viewable via the Web interface; rather it is maintained in the database only as a unique identifier of civilian Marine individuals.

Retention and disposal:

Disposition pending (until the National Archives and Records Administration approves retention and disposal schedule, records will be treated as permanent).

System manager(s) and address:

Policy Official and Records Holder is Branch Head, Civilian Workforce Management (MPC), HQMC, Manpower Plans & Policy Division, 3280 Russell Road, Quantico, VA 22134-5103.

Notification procedures:

Individuals seeking to determine whether information about themselves is contained in this system should address written inquiries to Branch Head, Civilian Workforce Management (MPC), HQMC, Manpower Plans & Policy Division, 3280 Russell Road, Quantico, VA 22134-5103.

The request must include the individual's full name, Social Security Number (SSN), complete mailing address and must be signed and notarized.

Record access procedures:

Individuals seeking access to information about themselves contained in this system should address written inquiries to Branch Head, Civilian Workforce Management (MPC), HQMC Manpower Plans & Policy Division, 3280 Russell Road, Quantico, VA 22134-5103.

The request must include the individual's full name, Social Security Number (SSN), complete mailing address and must be signed and notarized.

Contesting record procedures:

The USMC rules for contesting contents and appealing initial agency determinations are published in Secretary of the Navy Instruction 5211.5; 32 CFR part 701; or may be obtained from the Branch Head, Civilian Workforce Management (MPC) Manpower Plans & Policy Division, Manpower & Reserve Affairs (M&RA), 3280 Russell Road, Quantico, VA 22134-5103.

Record source categories:

Department of the Navy Civilian Authoritative Data Source (DONCADS); from the individual; local command where assigned; Defense Investigative Service (DIS); previous employers; educational institutions; employment agencies; civilian and military investigative reports (administrative, civil and criminal); and general correspondence concerning individuals.

Exemptions claimed for the system:

None.

[FR Doc. 2010-16792 Filed 7-8-10; 8:45 am]

BILLING CODE 5001-06-P